DEPARTMENT OF THE TREASURY

Internal Revenue Service

Open Meeting of the Taxpayer Assistance Center Committee of the Taxpayer Advocacy Panel

AGENCY: Internal Revenue Service (IRS), Treasury.

ACTION: Notice of meeting.

SUMMARY: An open meeting of the Taxpayer Assistance Center Committee of the Taxpayer Advocacy Panel will be conducted. The Taxpayer Advocacy Panel (TAP) is soliciting public comments, ideas, and suggestions on improving customer service at the Internal Revenue Service.

DATES: The meeting will be held Thursday, May 29, 2008, Friday, May 30, 2008, and Saturday, May 31, 2008.

FOR FURTHER INFORMATION CONTACT: Dave Coffman at 1-888-912-1227 or 206-220-6096.

SUPPLEMENTARY INFORMATION: Notice is hereby given pursuant to Section 10(a)(2) of the Federal Advisory Committee Act, 5 U.S.C. App. (1988) that an open meeting of the Taxpayer Assistance Center Committee of the Taxpayer Advocacy Panel will be held Thursday, May 29, 2008, 1 to 4:30 p.m., Friday, May 30, 2008, 8 a.m. to 5 p.m., and Saturday, May 31, 8:30 to 11:30 a.m., Mountain Time, in Denver, CO. For more information or to confirm attendance, please contact Dave Coffman. Mr. Coffman can be reached at 1-888-912-1227 or 206-220-6096. If you would like to have the TAP consider a written statement, write to Dave Coffman, TAP Office, 915 2nd Avenue, MS W-406, Seattle, WA 98174, or you can contact us at http://www.improveirs.org.

The agenda will include the following: Various IRS issues.

Dated: March 24, 2008.
Sandra L. McQuin,
Acting Director, Taxpayer Advocacy Panel.

[FR Doc. E8-6742 Filed 4-1-08; 8:45 am]

BILLING CODE 4830-01-P